DEPARTMENT OF TRANSPORTATION

National Highway Traffic Safety Administration

[U.S. DOT Docket No. NHTSA-2009-0142]

Reports, Forms, and Recordkeeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995 (44 U.S.C. 3501 et seq.), before seeking OMB approval, Federal agencies must solicit public comment on proposed collections of information, including extensions and reinstatements of previously approved collections.

This document describes one collection of information for which NHTSA intends to seek OMB approval.

DATES: Comments must be submitted on or before October 9, 2009.

ADDRESSES: Direct all written comments to the U.S. Department of Transportation Dockets, 1200 New Jersey Ave, SE., W46-474, Washington, DC 20590. Docket No. NHTSA-2009-0142.

FOR FURTHER INFORMATION CONTACT: Scott Roberts, PhD, Contracting Officer's Technical Representative, Office of Behavioral Safety Research (NTI-132), National Highway Traffic Safety Administration, 1200 New Jersey Ave, SE., W46-495, Washington, DC 20590. Dr. Roberts' phone number is 202-366-5594 and his e-mail address is Scott.Roberts@dot.gov.

SUPPLEMENTARY INFORMATION:

Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Evaluation Surveys for Distracted and Unsafe Driving Interventions

Type of Request: New information collection requirement.

OMB Clearance Number: None.

Form Number: This collection of information uses no standard forms.

Requested Expiration Date of Approval: December 31, 2012.

Summary of the Collection of Information: The National Highway Traffic Safety Administration (NHTSA) proposes to conduct a series of telephone surveys that will examine the effectiveness of high visibility enforcement demonstration programs to increase public awareness of the dangers of distracted and unsafe driving behaviors associated with mobile electronic devices like cell phones. Participation by respondents would be voluntary. Survey topics would include awareness of program activities, awareness of enforcement activities, attitudes towards distracted driving, understanding of relevant traffic laws, and the frequency of various unsafe driving behaviors.

In conducting the proposed survey, the interviewers would use computer-assisted telephone interviewing to reduce interview length and minimize recording errors. A Spanish-language translation and bilingual interviewers would be used to minimize language barriers to participation. The proposed survey would be anonymous; the survey would not collect any personal information that would allow anyone to identify respondents. Participant names would not be collected during the interview and the telephone number used to reach the respondent would be separated from the data record prior to its entry into the analytical database.

Description of the Need for the Information and Proposed Use of the Information—The National Highway Traffic Safety Administration (NHTSA) was established by the Highway Safety Act of l970 (23 U.S.C. 101) to carry out a Congressional mandate to reduce the mounting number of deaths, injuries, and economic losses resulting from motor vehicle crashes on the Nation's highways. In support of this mission, NHTSA proposes to conduct information collections to assess the effectiveness of interventions designed to assess the public's awareness of the dangers of distracted driving and of using mobile electronic devices including cell phones. An essential part of this evaluation effort is to compare baseline and post-intervention measures of attitudes, intervention awareness, and (relevant) self-reported behavior to determine if the interventions were associated with changes on those indices. The proposed study, to be administered in the first quarter of 2010, and in each of the next three quarters thereafter, will collect data on topics included in NHTSA's annual studies on the effectiveness of Click It or Ticket safety belt campaigns (and some additional topics), including: whether the driving public saw or heard paid media advertising about the high visibility enforcement campaign, whether they saw or heard increased law enforcement about the high visibility enforcement campaign, frequency of engaging in electronic mobile communication devices while driving, understanding of cell phone laws, attitudes about driving risk, and whether they had personally experienced increased law enforcement.

The findings from this proposed collection of information will assist NHTSA in addressing the problem of distracted driving and in formulating programs and recommendations to Congress. NHTSA will use the findings to help focus current programs and activities to achieve the greatest benefit, to develop new programs to decrease the likelihood of distracted driving, and to provide informational support to States, localities, and law enforcement agencies that will aid them in their efforts to reduce distracted driving crashes.

Description of the Likely Respondents (Including Estimated Number, and Proposed Frequency of Response to the Collection of Information)—Under this proposed effort, the Contractor would conduct pre-intervention and post-intervention surveys four times over the course of a year in demonstration sites and comparison sites. A total of 18 telephone pretest interviews averaging 10 minutes in length would be administered to test the computer programming of the questionnaire, and to determine if any last adjustments to the questionnaire are needed. Following any revisions carried out as a result of the pretest, the Contractor would conduct telephone interviews averaging approximately 10 minutes in length with 9,600 randomly selected member of the general public residing in the State(s) in which the demonstration program is taking place, age 16 and older, in telephone households and in cell phone only households. Interviews would be conducted with persons at residential phone numbers selected through random digit dialing. Federal law prohibits the use of auto dialing to call cell phones. Businesses are ineligible for the sample and would not be interviewed. No more than one respondent would be selected per household. Each member of the sample would complete one interview.

Estimate of the Total Annual Reporting and Recordkeeping Burden Resulting From the Collection of Information—NHTSA estimates that the pretest interviews would require an average of 10 minutes apiece, or a total of 3 hours for the 18 respondents. Each respondent in the final survey sample would require an average of 10 minutes to complete the telephone interview or a total of 1,600 hours for the 9,600 respondents. Thus, the number of estimated reporting burden hours a year on the general public would be 1,603 for the proposed survey. The respondents would not incur any reporting cost from the information collection. The respondents also would not incur any record keeping burden or recordkeeping cost from the information collection.

Authority: 44 U.S.C. Section 3506(c)(2)(A).

Jeff Michael,
Associate Administrator, Research and Program Development.

[FR Doc. E9-19029 Filed 8-7-09; 8:45 am]

BILLING CODE 4910-59-P